SECURITIES AND EXCHANGE COMMISSION

[Release No. 34-104548; File No. SR-NYSE-2025-20]

Self-Regulatory Organizations; New York Stock Exchange LLC; Notice of Withdrawal of a Proposed Rule Change Amending Section 302.00 of the NYSE Listed Company Manual To Exempt Closed-End Funds Registered Under the Investment Company Act of 1940 From the Requirement To Hold Annual Shareholder Meetings

January 6, 2026.

On June 6, 2025, the New York Stock Exchange LLC (“NYSE” or “Exchange”) filed with the Securities and Exchange Commission (“Commission”), pursuant to Section 19(b)(1) of the Securities Exchange Act of 1934 (“Exchange Act”) ¹ and Rule 19b-4 thereunder,² a proposed rule change to amend Section 302.00 of the NYSE Listed Company Manual to exempt closed-end funds registered under the Investment Company Act of 1940 ³ from the requirement to hold annual shareholder meetings. The proposed rule change was published for comment in the Federal Register on June 17, 2025.⁴

¹ 15 U.S.C. 78s(b)(1).

² 17 CFR 240.19b-4.

³ 15 U.S.C. 80a-1 et seq.

⁴ See Securities Exchange Act Release No. 103244 (June 12, 2025), 90 FR 25659. Comments on the proposed rule change are available at: https://www.sec.gov/comments/sr-nyse-2025-20/srnyse202520.htm.

On July 25, 2025, pursuant to Section 19(b)(2) of the Exchange Act,⁵ the Commission designated a longer period within which to approve the proposed rule change, disapprove the proposed rule change, or institute proceedings to determine whether to disapprove the proposed rule change.⁶ On September 10, 2025, the Commission instituted proceedings under Section 19(b)(2)(B) of the Exchange Act ⁷ to determine whether to approve or disapprove the proposed rule change.⁸ On December 2, 2025, the Commission extended the period for consideration of the proposed rule change to February 12, 2026.⁹

⁵ 15 U.S.C. 78s(b)(2).

⁶ See Securities Exchange Act Release No. 103549, 90 FR 35946 (July 30, 2025). The Commission designated September 15, 2025, as the date by which the Commission shall approve or disapprove, or institute proceedings to determine whether to disapprove, the proposed rule change.

⁷ 15 U.S.C. 78s(b)(2)(B).

⁸ See Securities Exchange Act Release No. 103931, 90 FR 44425 (Sept. 15, 2025).

⁹ See Securities Exchange Act Release No. 104286, 90 FR 56211 (Dec. 5, 2025).

On January 5, 2026, the Exchange withdrew the proposed rule change (SR-NYSE-2025-20).

For the Commission, by the Division of Trading and Markets, pursuant to delegated authority.¹⁰
¹⁰ 17 CFR 200.30-3(a)(12).
Sherry R. Haywood,
Assistant Secretary.

[FR Doc. 2026-00217 Filed 1-8-26; 8:45 am]

BILLING CODE 8011-01-P